DEPARTMENT OF COMMERCE

Bureau of Industry and Security

[Docket No. 231222-9999]

Notice of Reestablishment of the President's Export Council Subcommittee on Export Administration and Solicitation of Nominations for Membership

AGENCY: Bureau of Industry and Security, Department of Commerce.

ACTION: Notice.

SUMMARY: Pursuant to provisions of the Federal Advisory Committee Act, as amended, the Department of Commerce (the Department) announces the reestablishment of the President's Export Council Subcommittee on Export Administration (PECSEA) and solicits nominations for membership. The PECSEA will advise the Secretary of Commerce or the Secretary's designee on matters pertinent to the Export Control Reform Act of 2018 (ECRA), the International Emergency Economic Powers Act (IEEPA), and other relevant laws and regulations administered by the Bureau of Industry and Security (BIS), a component of the Department. The PECSEA will draw on the experiences and perspectives of its members to provide advice and make recommendations on protecting U.S. national security and foreign policy concerns through the administration of export controls while protecting U.S. technology leadership and commercial trade to ensure a strong U.S. defense industrial base.

DATES: Nominations for members must be received on or before 5 p.m. Eastern Standard Time (EST) on February 8, 2024. After that date, the Department may continue to accept nominations under this notice for up to approximately two years to fill any vacancies that may arise.

ADDRESSES: Nominations may be submitted via email to Ms. Yvette Springer, Committee Liaison Officer, Bureau of Industry and Security, U.S. Department of Commerce, at Yvette.Springer@bis.doc.gov.

FOR FURTHER INFORMATION CONTACT: Ms. Yvette Springer via email or at 202-482-2813.

SUPPLEMENTARY INFORMATION: The PECSEA was originally established on June 1, 1976, as a subordinate committee of the President's Export Council (PEC), and the PECSEA charter was renewed biennially until the PECSEA terminated in 2019. The PECSEA is being reestablished under agency authority as a subordinate committee of the PEC and in accordance with section 1-205 of Executive Order (E.O.) 12131, “The President's Export Council” (May 4, 1979), as amended and as continued by successive E.O.s, most recently by E.O. 14109, “Continuance of Certain Federal Advisory Committees and Amendments to Other Executive Orders,” September 29, 2023, and in accordance with the provisions of the Federal Advisory Committee Act, as amended (FACA) (5 U.S.C. 1001 et seq.).

The PECSEA is a discretionary committee and will function solely as an advisory body, complying with the provisions of FACA.

PECSEA members will be appointed by the Secretary of Commerce and serve at the Secretary's discretion. Members will generally serve two-year appointments and may be reappointed for membership by the Secretary. PECSEA members must be able to qualify for a Secret security clearance or a security clearance at a level sufficient to perform their work on PECSEA. The PECSEA will meet approximately three times per year. Members of PECSEA who are not otherwise paid a salary by the federal government shall receive no compensation from the U.S. by virtue of their service on the PECSEA, but may, upon their request, be allowed travel expenses, as authorized by 5 U.S.C. 5701 et seq.

PECSEA will be composed of members selected from industry and other non-governmental organizations, drawn from among members of the PEC and other representatives of industry and other non-governmental organizations who are exporters of or otherwise engaged in activities related to items that are presently controlled under the Export Administration Regulations or are proposed for such control, balanced to the extent possible among large and small firms. The PECSEA is seeking private-sector members who are preferably senior executives with strategic authority within their companies and with significant operational control around production, supply chains, research and development activities, and/or international sales and should have an understanding of the impact of export controls on these functions and the broader marketplace.

PECSEA will draw on the experiences and perspectives of its members to provide advice and make recommendations on protecting U.S. national security and foreign policy concerns through the administration of export controls while protecting U.S. technology leadership and commercial trade to ensure a strong U.S. defense industrial base. The diverse membership of the PECSEA assures perspectives reflecting the breadth of the PECSEA's responsibilities, and, where possible, the Department will also consider the ethnic, racial, and gender diversity and various abilities of the U.S. population.

To Apply: If you are interested in nominating someone or yourself to become a member of the PECSEA, please provide full name, title, employer name, and any other information you believe relevant to the nomination (2 pages maximum). Third-party nominations should state that the candidate agrees to the nomination.

Please do not send organization brochures or any other information.

All applications should be submitted in pdf or MS Word format via email to the email address listed in ADDRESSES above by the deadline noted in DATES above.

Privacy Act Statement

The collection, maintenance, and disclosure of this information is governed by the Privacy Act of 1974 (5 U.S.C. 552a). The Department of Commerce is authorized to collect this information pursuant to authorities that include, but are not limited to, E.O. 12131, “The President's Export Council” (May 4, 1979), as amended and as continued by successive E.O.s, most recently by E.O. 14109, “Continuance of Certain Federal Advisory Committees and Amendments to Other Executive Orders,” September 29, 2023, and in accordance with the provisions of the FACA. The principal purpose for which the Department will use the information is to assist in choosing members for the PECSEA. Information received will be maintained in a Privacy Act system of records, COMMERCE/DEPT-11, entitled “Candidates for Membership, Members, and Former Members of Department of Commerce Advisory Committees.” A notice describing that system, including a complete set of routine disclosures, has been published both in the Federal Register and on the Department's website at: https://osec.doc.gov/opog/PrivacyAct/SORNs/dept-11.html. Although providing this information is voluntary, an individual cannot be considered for membership without an application submission, whether self-nominated or nominated by a third-party.

Dated: January 3, 2024.
Alan F. Estevez,
Under Secretary of Commerce for Industry and Security.

[FR Doc. 2024-00190 Filed 1-8-24; 8:45 am]

BILLING CODE 3510-JT-P